DEPARTMENT OF STATE

Federal Register Notice of Intent To Prepare an Environmental Assessment; Notice of Intent To Prepare an Environmental Assessment and To Conduct Scoping Meetings and Notice of Floodplain and Wetland Involvement; Enbridge Pipelines (Southern Lights) L.L.C. (LSr Project)

AGENCY: Department of State.

ACTION: Notice of intent to prepare an environmental assessment (EA) and to conduct public scoping meetings. Notice of floodplain and wetlands involvement.

SUMMARY: Enbridge Pipelines (Southern Lights) L.L.C. has applied to the United States Department of State for a Presidential Permit for the proposed construction, connection, operation, and maintenance at the border of the United States of facilities for the export and import of petroleum to and from a foreign country (LSr Project). The Department of State receives and considers applications for Presidential Permits for such energy-related pipelines pursuant to authority delegated to it by the President under Executive Order 13337 of April 30, 2004 (69 FR 25299). To issue a Permit, the Department of State must find that issuance would serve the national interest. The Department intends to consult extensively with concerned Federal and State agencies on this application, and invites public comment to assist it in arriving at its determination. In accordance with Section 102(C) of the National Environmental Policy Act of 1969 (NEPA) (42 U.S.C. 4332(C)) and implementing regulations promulgated by the Council on Environmental Quality (40 CFR parts 1500-1508) and the Department of State (22 CFR part 161), including in particular 22 CFR 161.7(c)(1), the Department of State intends to prepare an environmental assessment (EA) to determine if there are any potential significant impacts and to address alternatives to the proposed action.

The purpose of this Notice of Intent is to inform the public about the proposed action, announce plans for scoping meetings, invite public participation in the scoping process, and solicit public comments for consideration in establishing the scope and content of the LSr Project EA. As the proposed project may involve an action in a floodplain or wetland, the EA will also include a floodplain and wetlands assessment and floodplain statement of findings.

DATES: Department of State invites interested agencies, organizations, and members of the public to submit comments or suggestions to assist in identifying significant environmental issues and in determining the appropriate scope of the LSr Project EA. The public scoping period starts with the publication of this Notice in the Federal Register and will continue until September 10, 2007. Written, electronic and oral comments will be given equal weight and State will consider all comments received or postmarked by September 10, 2007 in defining the scope of the LSr Project EA. Comments received or postmarked after that date will be considered to the extent practicable.

During this public scoping period, the Department of State plans to use the scoping process in conjunction with the Minnesota Public Utilities Commission public hearing process to help identify consulting parties and historic preservation issues for consideration under section 106 of the National Historic Preservation Act and its implementing regulations (36 CFR part 800). Dates and locations for the public scoping meetings are:

1. August 13; 11 a.m.-2 p.m.; Kennedy; MN; VFW & Cafe; 103 5th St. E.

2. August 13; 6 p.m.-9 p.m.; Stephen; MN; Stephen Community Center; 319 5th Street.

3. August 14; 6 p.m.-9 p.m.; Thief River Falls; MN; Best Western Meeting Room; 1060 Highway 32 South.

4. August 15; 11 a.m.-2 p.m.; Oklee; MN; Oklee Community Hall; 2nd Ave. Between Fire Hall and Gas Station.

5. August 15; 6 p.m.-9 p.m.; Gully; MN; Gully Community Center; 120 S. Main St.

6. August 16; 6 p.m.-9 p.m.; Clearbrook; MN; City Hall Gym; 200 Elm St. SE.

The public is encouraged to become involved in this process and provide specific comments or concerns about the proposed project. By becoming a commentator, your concerns will be addressed in the LSr Project EA and considered by the Department of State. Your comments should focus on the potential environmental impacts, reasonable alternatives (including alternative facility sites and alternative pipeline routes), and measures to avoid or lessen environmental impacts. The more specific your comments, the more useful they will be. The public scoping meetings identified above are designed to provide another opportunity to offer comments on the proposed project. Interested individuals and groups are encouraged to attend these meetings and to present comments on the environmental issues they believe should be addressed in the LSr EA. Again, written comments are considered with equal weight in the process relative to those received in public scoping meetings.

ADDRESSES: Written comments or suggestions on the scope of the LSr EA should be addressed to: Elizabeth Orlando, OES/ENV Room 2657, U.S. Department of State, Washington, DC 20520. Comments may be submitted electronically to: southernlights@state.gov.

FOR FURTHER INFORMATION CONTACT: For information on the proposed project or to receive a copy of the Draft LSr EA when it is issued, contact Elizabeth Orlando at the address listed in the ADDRESSES section of this notice by electronic or regular mail as listed above, or by telephone (202) 647-4284, or by fax at (202) 647-5947.

More information on the Enbridge LSr Project application for a Presidential Permit, including associated maps and drawings will be downloadable in its entirety from an Enbridge hosted project Web site that is being established for this purpose and will be accessible from: http://www.enbridgeUS.com/publicinfo. This Web site is expected to be operational on or about August 13, 2007. This Web site will NOT accept public comments for the record, but it will provide a link to the Department of State project e-mail address noted above. Department of State Presidential Permit information and process can be found at: http://www.state.gov/e/eeb/c9986.htm.

SUPPLEMENTARY INFORMATION:

Background and Need for Agency Action

The Department of State has received an application from Enbridge Pipelines (Southern Lights) L.L.C. (“Enbridge”) for a Presidential Permit, pursuant to Executive Order 13337 of April 30, 2004, to construct, connect, operate, and maintain a 20-inch crude oil and liquid hydrocarbon pipeline at the U.S.-Canadian border at Neche, Pembina County, North Dakota, for the purpose of transporting liquid hydrocarbons and other petroleum products between the United States and Canada. Enbridge seeks this authorization in connection with its Southern Lights Pipeline Project (“LSr Project”), which is designed to transport Canadian crude oil from the Western Canadian Sedimentary Basin (“WCSB”) to existing refinery markets in the Midwest region of the United States. The project description set forth in this notice is based on information provided by Enbridge in its Presidential permit application.

Enbridge is planning to increase its ability to provide additional supplies of petroleum to markets in the United States in response to customer requests and marketplace demands. To fulfill this goal, Enbridge has embarked upon an expansion program to increase its transportation capacity. The Enbridge Expansion Program is specifically designed to increase petroleum transportation services from the increasingly accessible oil sands supply in the WCSB to refineries in the Midwest. Enbridge proposes to construct and operate a petroleum pipeline and related facilities from Cromer, Manitoba, Canada, to Clearbrook, Minnesota in the United States. The LSr Project would have the capacity to deliver 186,000 barrels per day (bpd) of petroleum from a supply hub near Cromer, Manitoba to an existing terminal in Clearbrook, Minnesota.

In total, the LSr Project would consist of approximately 313 miles of new pipeline in total. The proposed system expansion would include the construction of approximately 136 miles of new 20-inch-diameter pipeline from the United States-Canada border near Neche, North Dakota to the existing Enbridge tank farm in Clearbrook, Minnesota for the transportation of petroleum. Enbridge proposes to construct the pipeline generally along its existing pipeline right-of-way. In Canada, the project would involve the construction of approximately 178 miles of new pipeline from Cromer, Manitoba to the United States-Canada border. Appropriate regulatory authorities in Canada will conduct an independent environmental review for the Canadian facilities.

The LSr Project also would require modifications at existing pump stations and the construction of delivery facilities and mainline valves. Modifications of the pump stations would occur at locations necessary to maintain adequate flow through the pipeline. Mainline valves would be installed and located as dictated by the hydraulic characteristics of the transported petroleum. Enbridge proposes to begin construction of the project in mid-2008. Construction would occur over approximately 6 months, with an in-service date on or before December 31, 2008.

U.S. counties that could possibly be affected by construction of the proposed pipeline are:

North Dakota: Pembina.

Minnesota: Kittson, Marshall, Pennington, Red Lake, Polk, Clearwater.

The LSr Project would be constructed within or adjacent to Enbridge's existing right-of-way between the United States-Canadian border near Neche, North Dakota and Clearbrook, Minnesota. Construction of the proposed pipeline would generally require a 100-foot-wide construction right-of-way to allow temporary storage of topsoil and spoil and to accommodate safe operation of construction equipment. The spoil side (i.e., topsoil and ditch spoil stockpile area) would typically be 25 feet wide and generally located within the existing maintained right-of-way. The working side (i.e., equipment work area and travel lane) would typically be 75 feet wide and partially located outside the existing maintained right-of-way. Following construction, up to a 50-foot-wide permanent right-of-way in addition to the existing permanent right-of-way will be maintained for operation of the pipeline.

Dated: July 23, 2007.
David Brown,
Director, Office of Environmental Policy, Bureau of International Oceans, Environment and Scientific Affairs, U.S. Department of State.

[FR Doc. E7-14488 Filed 7-26-07; 8:45 am]

BILLING CODE 4710-07-P